FEDERAL RESERVE SYSTEM

Change in Bank Control Notices; Acquisitions of Shares of a Bank or Bank Holding Company

The notificants listed below have applied under the Change in Bank Control Act (12 U.S.C. 1817(j)) and 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than July 20, 2017.

A. Federal Reserve Bank of Cleveland (Nadine Wallman, Vice President) 1455 East Sixth Street, Cleveland, Ohio 44101-2566. Comments can also be sent electronically to Comments.applications@clev.frb.org:

1. D. Thomas Boyer, Bryan, Ohio, individually and the D. Thomas Boyer Control Group, consisting of D. Thomas Boyer, Bryan, Ohio; Virginia Boyer Egan, Bryan, Ohio; and Charles D. Boyer, Bryan, Ohio; to retain voting shares of Corn City State Bank, Deshler, Ohio.

Board of Governors of the Federal Reserve System, June 28, 2017.
Yao-Chin Chao,
Assistant Secretary of the Board.

[FR Doc. 2017-13935 Filed 6-30-17; 8:45 am]

BILLING CODE 6210-01-P